DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 25, 2012. Address written comments to Statutory Import Programs Staff, Room 3720, U.S. Department of Commerce, Washington, DC 20230. Applications may be examined between 8:30 a.m. and 5 p.m. at the U.S. Department of Commerce in Room 3720.

Docket Number: 12-025. Applicant: Medical University of South Carolina, 169 Ashley Ave., Charleston, SC 29403. Instrument: Electron Microscope. Manufacturer: JEOL, Ltd., Japan. Intended Use: The instrument will be used to determine the characteristics and processes involved in tumorigenesis and the progression to metastatic disease, by examining human and animal tissue to ascertain changes in structure due to disease-related phenomenon. The use of electron microscopy provides structural assessments that may be coupled with physiological or other types of information derived from other techniques to better understand the development of disease. Justification for Duty-Free Entry: There are no instruments of the same general category manufactured in the United States. Application accepted by Commissioner of Customs: June 11, 2012.

Docket Number: 12-027. Applicant: University of Wyoming, 1000 E University Ave., Laramie, WY 82071. Instrument: Electron Microscope. Manufacturer: FEI Company, Czech Republic. Intended Use: The instrument will be used to study metals, metal oxides, metal chalcogenides, DNA, quantum dots, and carbon nanomaterials to determine their size, shape, morphology, composition and crystal structure. Properties such as durability, corrosion resistance, crystal growth, and fragmentation will be investigated. Justification for Duty-Free Entry: There are no instruments of the same general category manufactured in the United States. Application accepted by Commissioner of Customs: June 4, 2012.

Docket Number: 12-028. Applicant: Air Force Institute of Technology, 2950 Hobson Way, Wright-Patterson AFB, OH 45433-7765. Instrument: Electron Microscope. Manufacturer: FEI Company, Czech Republic. Intended Use: The instrument will be used to develop aircraft and components with increased reliability, performance, reduction of cost, and improved safety, using technology such as thermal shields, conductive wires, light-weight structural materials and nano-devices. Experiments will involve visual characterization of damaged components, experimental components, and reliability investigations on the nanometer scale, to identify porosity, fracture surface features, fiber damage, crack propagation, as well as the verification of properly designed nano-devices and related nanomaterials. Justification for Duty-Free Entry: There are no instruments of the same general category manufactured in the United States. Application accepted by Commissioner of Customs: June 11, 2012.

Docket Number: 12-031. Applicant: Penn State College of Medicine, 500 University Dr., Hershey, PA 17033. Instrument: Electron Microscope. Manufacturer: JEOL, Ltd., Japan. Intended Use: The instrument will be used to further advance the body of research of the College of Medicine and the greater scientific community by studying multi-protein complexes, DNA protein complexes, small polypeptide biding sites and RNA polymerase, among other specimens. The instrument will be used for 3D image reconstruction from tomograms and single particle data sets imaged from vitrified specimens. Justification for Duty-Free Entry: There are no instruments of the same general category manufactured in the United States. Application accepted by Commissioner of Customs: June 13, 2012.

Dated: June 27, 2012.
Gregory W. Campbell,
Director of Subsidies Enforcement Import Administration.

[FR Doc. 2012-16462 Filed 7-3-12; 8:45 am]

BILLING CODE 3510-DS-P